DEPARTMENT OF HEALTH AND HUMAN SERVICES

National Institutes of Health

National Institute of General Medical Sciences; Cancellation of Meeting

Notice is hereby given of the cancellation of the National Institute of General Medical Sciences Special Emphasis Panel; Review of Tribal Institutional Review Board Establishment and Enhancement (TIRBEE) Award (R24), July 01, 2025, 10:00 a.m. to July 01, 2025, 6:30 p.m., National Institutes of Health, National Institute of General Medical Sciences, Natcher Building, 45 Center Drive, Bethesda, Maryland 20892 which was published in the Federal Register on April 4, 2025, FR Doc. 2025-05832, 90 FR 14842.

This meeting has been transferred from National Cancer Institute to Center for Scientific Review.

Dated: June 2, 2025.
Bruce A. George,
Program Analyst, Office of Federal Advisory Committee Policy.

[FR Doc. 2025-10334 Filed 6-5-25; 8:45 am]

BILLING CODE 4140-01-P